DEPARTMENT OF THE INTERIOR

Bureau of Land Management

[AZ-030-1610-DH; AZA-31733]

Notice of Realty Action and Intent To Amend the Kingman Resource Management Plan

AGENCY: Bureau of Land Management, Interior.

ACTION: Notice of realty action and intent to prepare an Environmental Assessment (EA) to consider amending the Kingman Resource Management Plan (RMP).

SUMMARY: The Bureau of Land Management (BLM) Kingman Field Office (KFO) proposes to amend the Kingman RMP (1995) to allow for classification and disposal of certain public lands (see A below), and special designation of certain other public lands (see B below), for use as a shooting range and buffer as requested by the Arizona Game & Fish Department (AG&FD). A decision to amend the land use plan would constitute a proposed classification of the land, thirty (30) days after which the land would be classified unless the Secretary exercises jurisdiction pursuant to 43 CFR 2450.5. The lands proposed under A—Shooting Range below are proposed for classification under section 7 of the Taylor Grazing Act, 43 U.S.C. 315f and Executive Order No. 6910, and disposal under the provisions of the Recreation and Public Purposes (R&PP) Act, as amended (43 U.S.C. 869 et seq.):

A—Shooting Range

Gila and Salt River Meridian, Mohave County, Arizona

T. 19 N., R. 21 W.,

Sec. 35, S½NE¼NE¼, SE¼NW¼NE¼, E½SW¼NE¼, SE¼NE¼, N½NE¼SE¼, N½SW¼NE¼SE¼, NE¼NW¼SE¼, N½SE¼NW¼SE¼;

Sec. 36, S½NW¼NE¼, N½SW¼NE¼, N½S½SW¼NE¼, S½N½NW¼, S½NW¼, N½NE¼NW¼SW¼, NW¼NW¼SW¼;

Containing approximately 315 acres.

The lands identified under B—Buffer below are being considered through the plan amendment process for special designation for retention and management under a Cooperative Management Plan/Agreement between the AG&FD and the BLM for safety purposes:

B—Buffer

Gila and Salt River Meridian, Mohave County, Arizona

T. 19 N., R. 21 W.,

Sec. 25, SW¼NE¼SE¼, S½NW¼SE¼, S½N½SW¼, S½S½;

Sec. 26, S½NE¼SE¼, SE¼NW¼SE¼, E½SW¼SE¼, SE¼SE¼;

Sec. 35, N½NE¼NE¼, NE¼NW¼NE¼;

Sec. 36, N½N½N½, S½NE¼NE¼, N½SE¼NE¼;

Containing approximately 470 acres.

Upon publication of this notice, the lands described under “A” above are hereby segregated from all forms of appropriation under the public land laws, including the general mining laws, except for conveyance under the R&PP Act. The segregative effect applies to the Federal surface but only to the Federally-owned minerals in section 36. The BLM will work collaboratively with interested parties to identify the management decisions that are best suited to local, regional, and national needs and concerns.

DATES: The public is invited to identify issues and concerns to be addressed in the EA to be prepared for the potential RMP amendment. Submissions should be in writing or by e-mail (see addresses below). Comments must be postmarked no later than 30 days following the date of publication of this notice in the Federal Register. Future public involvement activities, opportunities and review/comment periods will be announced at least 15 days in advance through other notices, media releases, or mailings. A public open house will be held on the Mohave Valley Campus of Mohave Community College, Room 210, 3400 Highway 95, Bullhead City, Arizona.

ADDRESSES: Comments on the various aspects of this Notice as identified in the Supplemental Information should be sent to John R. Christensen, Field Manager, Bureau of Land Management, Kingman Field Office, 2475 Beverly Avenue, Kingman, Arizona 86401. Comments, including names and street addresses of respondents, will be available for public review at the Kingman Field Office during regular business hours, (7:45 a.m. to 4:30 p.m.) Monday through Friday, except legal holidays, and may be published as part of the EA. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

FOR FURTHER INFORMATION CONTACT: Joyce Cook, Realty Specialist, Kingman Field Office, 2475 Beverly Avenue, Kingman, Arizona, 86401, telephone (928) 692-4428.

SUPPLEMENTARY INFORMATION: The Kingman Resource Management Plan (RMP), approved in 1995, identified land for R&PP uses, i.e. churches, schools, parks, fire departments, etc., with a caveat that non-conforming uses may be considered on a case-by-case basis. A shooting range is considered, by most, to be a non-conforming use. A previously proposed location for this action was met with opposition based on its proximity to residential development. Planning criteria include those identified for R&PP in the RMP and project specific criteria developed to aid in location of the shooting range on public land and determine suitability for classification for disposal through R&PP. Other criteria may be developed through public input. The amendment would consider whether restrictions on uses or activities, such as case-by-case approvals, would be needed to ensure public safety within the buffer area. The remainder of public land, not identified above, will continue to be managed as provided for in the approved RMP and actions in the vicinity of the shooting range would be considered on a case-by-case basis to determine effects to or from the shooting range.

Comments should be written and apply to one or more of the following aspects:

Application Comments: Interested parties may submit comments regarding the specific use proposed in the application, proposed action and plan of development, whether the BLM followed proper administrative procedures in reaching the decision, or any other factor not directly related to the suitability of the land for a shooting range. Copies of the application, proposed action and plan of development are available from the BLM address or contact listed above.

Amendment Comments: Interested parties may submit comments regarding the project planning criteria used to determine a location on public lands or provide additional criteria for consideration. Copies of the criteria for this project are available from the BLM address or contact listed above.

Classification Comments: Interested parties may submit comments involving the suitability of the land for a shooting range. Comments on the classification should be limited to whether the land is physically suited for a shooting range, whether the use will maximize the future use or uses of the land, whether the use is consistent with local planning and zoning, or if the use is consistent with State and Federal programs.

Following the public open house and end of the period to receive comments, an Environmental Assessment (EA) will be prepared by an interdisciplinary team consisting of BLM and AG&FD personnel to determine the impacts of the proposed plan amendment and classification for disposal.

It is anticipated that the following issues will be analyzed in the EA: Noise, Drainage, Lead Contamination, Visual, Wildlife particularly Desert Tortoise, Mineral Ownership, Safety, Socio-Economics, Access, Cultural and Tribal Consultation.

Following the preparation of the EA there will be further public involvement opportunities to comment on the EA.

Dated: January 27, 2003.
Ruben A. Sanchez,
Acting Field Manager, Kingman Field Office.

[FR Doc. 03-7167 Filed 3-25-03; 8:45 am]

BILLING CODE 4310-32-P